ENVIRONMENTAL PROTECTION AGENCY

(ER-FRL-6616-9)

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. DA-COE-F28000-IL Rating EO2, Sugar Creek Municipal Water Supply, Updated Information, Proposed New 1172 Acre Water Supply Reservoir, Construction, COE Section 404 Permit Issuance, City of Marion, Williamson and Johnson Counties, IL.

Summary: EPA expressed environmental objections based on the issues that were raised regarding cumulative impact analysis, cost analysis, recreational use, and legal limitations.

Final EISs

ERP No. F-AFS-L65332-OR Ashland Creek Watershed Protection Project, Proposal to Manage Vegetation, Rogue River National Forest, Ashland Ranger District, City of Ashland, Jackson County, OR.

Summary: No formal comment letter was sent to the preparing agency.

ERP No. F-AFS-L65351-ID East Slate Project, Harvesting Timber, Implementation, Idaho Panhandle National Forests, St. Joe Ranger District, Shoshone County, ID.

Summary: No formal comment letter was sent to the preparing agency.

ERP No. F-AFS-L65357-ID East Beaver and Miner's Creek Timber Sales and Prescribed Burning Project, Implementation, Caribou-Targhee National Forest, Dubois Ranger District, Clark County, ID.

Summary: No formal comment letter sent to the preparing agency.

ERP No. F-GSA-L81013-OR Eugene/Springfield New Federal Courthouse, Construction, Lane County, OR.

Summary: No comment letter sent on the Final EIS.

ERP No. F-SFW-L36100-WA Tacoma Water Green River Water Supply Operations and Watershed Protection Habitat Conservation Plan, Implementation, Issuance of a Multiple Species Permit for Incidental Take, King County, WA.

Summary: No formal comment letter was sent to the preparing agency.

ERP No. F-USN-A10072-00 Surveillance Towed Array Sensor System (SURTASS) Low Frequency Active (LFA), To Improved Capability to Detect Quiter and Harder-to-Find Foreign Submarines, Implementation.

Summary: EPA continues to express environmental concerns related to impact on marine mammals.

ERP No. F-USN-E11047-00 USS Winston S. Churchill (DDG 81), Conducting a Shock Trial, Offshore of Naval Stations, Mayport, FL; Norfolk, VA and/or Pascagoula, MS.

Summary: Some environmental impact(s) on resident fishery populations are unavoidable; however, avian/marine mammals in the vicinity of testing should be adequately protected through planned mitigation measures.

Dated: April 03, 2001.
Joseph C. Montgomery,
Director, NEPA Compliance Division, Office of Federal Activities.

[FR Doc. 01-8560 Filed 4-5-01; 8:45 am]

BILLING CODE 6560-50-P